DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before June 22, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on June 1, 2020.
Donald P. Burger,
Chief, General Approvals and Permits Branch.

Special Permits Data
Application No. | Applicant | Regulation(s) affected | Nature of the special permits thereof
10814-M | Spellman High Voltage Electronics Corporation | 173.302a | To modify the special permit to update the reference drawings in the permit. (modes 1, 2, 3, 4, 5)
11054-M | Welker, Inc | 173.301(f)(2), 173.302a(a)(1), 173.304a(a)(1), 173.304a(d)(3)(i), 173.201(c), 173.202(c), 173.203(c), 177.840(a)(1), 178.36(h), 178.36(m) | To modify the special permit to authorize an exemption from § 178.36(h) for thread shear on cylinder tie bolts and to correct size descriptions on some authorized cylinders. (modes 1, 2, 3, 4)
11859-M | Cobham Mission Systems Orchard Park Inc | 173.301(f), 173.302a(a), 178.65 | To modify the special permit to authorize the use of Argon in a missile gas storage system. (modes 1, 2, 4)
12102-M | Haz Mat Services, Incorporated | 173.56(i) | To modify the special permit to authorize additional Class 3 and Division 4.1 explosives. (modes 1, 3)
12303-M | Halliburton Company | 173.201, 173.301(f), 173.302a, 173.304a | To modify the special permit to provide revised drawings for the RDT sample chamber arrangement covered by the special permit. (modes 1, 2, 3, 4)
14301-M | Gascon A Division Of Southey Holdings (Pty) Ltd | 178.274(b)(1), 178.276(a)(2), 178.276(b)(1) | To modify the special permit to authorize a new calculation method for calculating allowable external pressure. (modes 1, 2, 3)
14656-M | Purepak Technology Corporation | 173.158(f)(3) | To modify the special permit to authorize an additional marking option to the outside of the package. (modes 1, 2, 3)
14784-M | Weldship Corporation | 180.209(a), 180.209(b), 180.209(b)(1)(iv) | To modify the special permit to clarify that either AE/UE or 100% UE testing is authorized for the ten year requalification period of cylinders. (modes 1, 2, 3)

[FR Doc. 2020-12121 Filed 6-4-20; 8:45 am]

BILLING CODE 4909-60-P